ENVIRONMENTAL PROTECTION AGENCY

[EPA-HQ-OPP-2014-0479; FRL 9931-23-OEI]

Agency Information Collection Activities; Reporting in the FIFRA Cooperative Agreement Work Plan and Report Template; Submitted to OMB for Review and Approval; Comment Request

AGENCY: Environmental Protection Agency (EPA).

ACTION: Notice.

SUMMARY: EPA has submitted the following information collection request (ICR) to the Office of Management and Budget (OMB) for review and approval in accordance with the Paperwork Reduction Act (PRA): “Reporting in the FIFRA Cooperative Agreement Work Plan and Report Template” and identified by EPA ICR No. 2511.01 and OMB Control No. 2070-NEW. The ICR, which is available in the docket along with other related materials, provides a detailed explanation of the collection activities and the burden estimate that is only briefly summarized in this document. EPA did not receive any comments in response to the previously provided public review opportunity issued in the Federal Register on January 2, 2015 (80 FR 40). A correction notice published on January 8, 2015 (80 FR 1029).

DATES: Comments must be received on or before August 31, 2015.

ADDRESSES: Submit your comments, identified by docket identification (ID) number EPA-HQ-OPP-2014-0479, to both EPA and OMB as follows:

• To EPA online using http://www.regulations.gov (our preferred method) or by mail to: EPA Docket Center, Environmental Protection Agency, Mail Code 28221T, 1200 Pennsylvania Ave. NW., Washington, DC 20460.

• To OMB via email to oira_submission@omb.eop.gov. Address comments to OMB Desk Officer for EPA.

EPA's policy is that all comments received will be included in the docket without change, including any personal information provided, unless the comment includes profanity, threats, information claimed to be Confidential Business Information (CBI), or other information whose disclosure is restricted by statute. Do not submit electronically any information you consider to be CBI or other information whose disclosure is restricted by statute.

FOR FURTHER INFORMATION CONTACT: Cameo G. Smoot, Field and External Affairs Division, (7605P), Environmental Protection Agency, 1200 Pennsylvania Ave. NW., Washington, DC 20460-0001; telephone number: (703) 305-5454; email address: smoot.cameo@epa.gov.

SUPPLEMENTARY INFORMATION: Docket: Supporting documents, including the ICR that explains in detail the information collection activities and the related burden and cost estimates that are summarized in this document, are available in the docket for this ICR. The docket can be viewed online at http://www.regulations.gov or in person at the EPA Docket Center, West William Jefferson Clinton Bldg., Rm. 3334, 1301 Constitution Ave. NW., Washington, DC. The telephone number for the Docket Center is (202) 566-1744. For additional information about EPA's public docket, visit http://www.epa.gov/dockets.

ICR status: This ICR is for a new information collection activity.

Under PRA, 44 U.S.C. 3501 et seq., an agency may not conduct or sponsor, and a person is not required to respond to, a collection of information, unless it displays a currently valid OMB control number. The OMB control numbers are displayed either by publication in the Federal Register or by other appropriate means, such as on the related collection instrument or form, if applicable. The display of OMB control numbers for certain EPA regulations is consolidated in 40 CFR part 9.

Abstract: This ICR documents the Paperwork burden of the electronic collection of information for the pre-award burden activity for creating a work plan and the post-award and after-the-grant award activities related to reporting accomplishments to implement EPA's Federal Insecticide, Fungicide and Rodenticide Act (FIFRA) State and Tribal Assistance Grant (STAG) program (7 U.S.C. 136u). This ICR augments the ICR entitled “EPA's General Regulation for Assistance Programs ICR” (EPA No. 0938.18; OMB No. 2030-0020) which accounts for the current PRA burden for the minimum management requirements for all recipients of EPA grants or cooperative agreements (assistance agreements). This new ICR provides OMB the burden assessment for collecting the same information in a different standardized electronic format for only the STAG grant program.

Respondents/Affected Entities: State, local governments, tribes and U.S. territories. Entities potentially affected by this ICR are grantees of Federal funds participating in the FIFRA and STAG program.

Respondent's obligation to respond: Mandatory (7 U.S.C. 136u and 40 CFR parts 30 and 31).

Estimated total number of potential respondents: 81.

Frequency of response: On occasion.

Estimated total burden: 6,318 hours (per year). Burden is defined at 5 CFR 1320.3(b).

Estimated total costs: $233,280 (per year), includes no annualized capital investment or maintenance and operational costs.

Changes in the estimates: This is a new ICR. Relative to the baseline annual burden for reporting general management grant reporting requirements approved under EPA ICR No. 0938.18; OMB No. 2030-0020, the overall annual burden increase for FIFRA program specific activities is 6,318 hours, or 78 hours per respondent annually. This change documents the incremental burden for reporting FIFRA grant program specific activities (e.g., 5,700 environmental enforcement and endangered species activities) and provides conservative projection for program growth. This is a program change.

Authority: 44 U.S.C. 3501 et seq.

Courtney Kerwin,
Acting Director, Collection Strategies Division.

[FR Doc. 2015-18669 Filed 7-29-15; 8:45 am]

BILLING CODE 6560-50-P